DEPARTMENT OF TRANSPORTATION

Federal Aviation Administration

Notice of Intent to Rule on Passenger Facility Charge (PFC) Application 09-09-C-00-PHX, To Impose and Use PFC Revenue at Phoenix Sky Harbor International Airport, Phoenix, AZ

AGENCY: Federal Aviation Administration (FAA), DOT.

ACTION: Notice of Intent to Rule on Application.

SUMMARY: The FAA proposes to rule and invites public comment on the application to impose and use PFC revenue at Phoenix Sky Harbor International Airport, under the provisions of the Aviation Safety and Capacity Expansion Act of 1990 (Title IX of the Omnibus Budget Reconciliation Act of 1990) (Pub. L. 101-508) and Part 158 of the Federal Aviation Regulations (14 CFR Part 158).

DATES: Comments must be received on or before February 25, 2009.

ADDRESSES: Comments on this application may be mailed or delivered in triplicate to the FAA at the following address: Federal Aviation Administration, Airports Division, 15000 Aviation Blvd., Room 3012, Lawndale, CA 90261. In addition, one copy of any comments submitted to the FAA must be mailed or delivered to Mr. Danny W. Murphy, Aviation Director, City of Phoenix, at the following address: 3400 Sky Harbor Boulevard, Phoenix, AZ 85034. Air carriers and foreign air carriers may submit copies of written comments previously provided to the City of Phoenix under section 158.23 of Part 158.

FOR FURTHER INFORMATION CONTACT: Darlene Williams, Airport Planner/PFC Specialist, Los Angeles Airports District Office, 15000 Aviation Blvd., Room 3000, Lawndale, CA 90261, Telephone: (310) 725-3625. The application may be reviewed in person at this same location.

SUPPLEMENTARY INFORMATION: The FAA proposes to rule and invites public comment on the application to impose and use PFC revenue at Phoenix Sky Harbor International Airport under the provisions of the 49 U.S.C. 40117 and Part 158 of the Federal Aviation Regulations (14 CFR Part 158). On January 9, 2009, the application was found substantially complete. The FAA will approve or disapprove the application, in whole or in part, no later than April 18, 2009.

The following is a brief overview of the impose and use application No. 09-09-C-00-PHX:

Proposed charge effective date: March 1, 2010.

Proposed charge expiration date: June 1, 2028 Level of the proposed PFC: $4.50.

Total estimated PFC revenue: $1,858,636,000.

Description of proposed project:

Impose and use: (1) Automated Train—this project will run entirely on airport property with six stations spanning approximately 5 miles from the northeast corner of the airport where it will connect with the urban light rail line, (2) Community Noise Reduction Program—this program operates under voluntary acquisition and relocation and sound insulation mitigation services, (3) Terminal Capacity Improvements—upgrades to Terminals 3 and Terminal 4, (4) Terminal 4 Apron Rehab—rehabilitation of failed concrete pavement around the concourse aprons, (5) South Infield Paving—this project will provide stabilization of the infield asphalt pavement, and (6) Airfield Lighting and Runway Sign Relocation—improving visual conditions of airfield lighting with enhanced technology.

Class or classes of air carriers which the public agency has requested not be required to collect PFCs: Nonscheduled/on demand air carriers, filing FAA Form 1800-31.

Any person may inspect the application in person at the FAA office listed above under “FOR FURTHER INFORMATION CONTACT” and at the FAA Regional Airports Division located at: Federal Aviation Administration, Airports Division, 15000 Aviation Blvd., Room 3012, Lawndale, CA 90261. In addition, any person may, upon request, inspect the application, notice and other documents germane to the application in person at the City of Phoenix.

Issued in Lawndale, California, on January 12, 2009.
Mia Paredes Ratcliff,
Planning and Programming Manager, Airports Division, Western-Pacific Region.

[FR Doc. E9-1313 Filed 1-23-09; 8:45 am]

BILLING CODE 4910-13-M